NATIONAL SCIENCE FOUNDATION

Notice of Permit Modification Received Under the Antarctic Conservation Act of 1978 (Pub. L. 95-541)

AGENCY: National Science Foundation.

ACTION: Notice of permit modification request received under the Antarctic Conservation Act of 1978, Public Law 95-541.

SUMMARY: The National Science Foundation (NSF) is required to publish a notice of requests to modify permits issued to conduct activities regulated under the Antarctic Conservation Act of 1978. NSF has published regulations under the Antarctic Conservation Act at Title 45 part 670 of the Code of Federal Regulations. This is the required notice of a requested permit modification.

DATES: Interested parties are invited to submit written data, comments, or views with respect to this permit application by August 29, 2014. Permit applications may be inspected by interested parties at the Permit Office, address below.

ADDRESSES: Comments should be addressed to Permit Office, Room 755, Division of Polar Programs, National Science Foundation, 4201 Wilson Boulevard, Arlington, Virginia 22230.

FOR FURTHER INFORMATION CONTACT: Li Ling Hamady, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Description of Permit Modification Requested: The Foundation issued a permit (ACA 2014-001) to Ron Naveen on May 24, 2013. The issued permit allows the applicant to enter ASPAs and conduct censusing/surveying visitor sites and penguin/seabird breeding locations in the Antarctic Peninsula.

Now the applicant proposes a modification to the permit to track individual Gentoo penguin movements and site fidelity using implantable PIT (Passive Integrated Transponder) tags, and assess relatedness within a colony using genetic techniques from small (0.5ml) blood samples.

Location: Antarctic Peninsula locations being censused/surveyed by the Antarctic Site Inventory project operated by Oceanites, Inc., as detailed in ACA permit 2014-001.

Dates: September 1, 2014 to August 31, 2018.

Nadene G. Kennedy,
Polar Coordination Specialist, Division of Polar Programs.

[FR Doc. 2014-17919 Filed 7-29-14; 8:45 am]

BILLING CODE 7555-01-P